FEDERAL EMERGENCY MANAGEMENT AGENCY

44 CFR part 65

[Docket No. FEMA-B-7402]

Changes in Flood Elevation Determinations

AGENCY: Federal Emergency Management Agency (FEMA).

ACTION: Interim rule.

SUMMARY: This interim rule lists communities where modification of the Base (1-percent-annual-chance) Flood Elevations is appropriate because of new scientific or technical data. New flood insurance premium rates will be calculated from the modified Base Flood Elevations for new buildings and their contents.

DATES: These modified Base Flood Elevations are currently in effect on the dates listed in the table below and revise the Flood Insurance Rate Maps in effect prior to this determination for each listed community.

From the date of the second publication of these changes in a newspaper of local circulation, any person has ninety (90) days in which to request through the community that the Associate Director for Mitigation reconsider the changes. The modified elevations may be changed during the 90-day period.

ADDRESSES: The modified Base Flood Elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified Base Flood Elevations are not listed for each community in this interim rule. However, the address of the Chief Executive Officer of the community where the modified Base Flood Elevation determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified Base Flood Elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in Base Flood Elevations are in accordance with 44 CFR 65.4.

National Environmental Policy Act

This rule is categorically excluded from the requirements of 44 CFR part 10, Environmental Consideration. No environmental impact assessment has been prepared.

Regulatory Flexibility Act

The Associate Director for Mitigation certifies that this rule is exempt from the requirements of the Regulatory Flexibility Act because modified Base Flood Elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona:
Gila | Town of Payson | June 6, 2000, June 13, 2000, Payson Roundup | The Honorable Vernon M. Stiffler, Mayor, Town of Payson, 303 North Beeline Highway, Payson, Arizona 85541-4306 | May 18, 2000 | 040107
Mohave | Unincorporated Areas | May 3, 2000, May 10, 2000, Kingman Daily Minor | The Honorable Buster Johnson, Chairman, Mohave County Board of Supervisors, 809 East Beale Street, Kingman, Arizona 86401-5924 | Oct. 20, 2000 | 040058
Navajo | Unincorporated Areas | May 17, 2000, May 24, 2000, Holbrook Tribune News | The Honorable Tommy Thompson, Chairperson, Navajo County Board of Supervisors, P.O. Box 668, Holbrook, Arizona 86025 | April 20, 2000 | 040066
Pima | City of Tucson | June 20, 2000, June 27, 2000, Arizona Daily Star | The Honorable Robert Walkup, Mayor, City of Tucson, P.O. Box 27210, Tucson, Arizona 85726 | May 31, 2000 | 040076
Arkansas: Crawford | Unincorporated Areas | June 7, 2000, June 14, 2000, Crawford County Courier | The Honorable Jerry Williams, Crawford County Judge, Crawford County Courthouse, 300 Main Street, Room 4, Van Buren, Arkansas 72956-5798 | Sept. 12, 2000 | 050428
California:
Alameda | City of Fremont | June 1, 2000, June 8, 2000, The Argus | The Honorable Gus Morrison, Mayor, City of Fremont, P.O. Box 5006, Fremont, California 94537 | April 25, 2000 | 065028
Lake | Unincorporated Areas | June 14, 2000, June 21, 2000, Lake County Record Bee | The Honorable D. W. Merriman, Chairperson, Lake County Board of Supervisors, 255 North Forbes Street, Lakeport, California 95453 | May 25, 2000 | 060090
Colorado:
Adams | City of Northglenn | May 18, 2000, May 25, 2000, Northglenn-Thornton Sentinel | The Honorable Don Parsons, Mayor, City of Northglenn, P.O. Box 330061, Northglenn, Colorado 80233-8061 | Aug. 23, 2000 | 080257
Adams | City of Thornton | May 18, 2000, May 25, 2000, Northglenn-Thornton Sentinel | The Honorable Noel Busck, Mayor, City of Thornton, 9500 Civic Center Drive, Thornton, Colorado 80229 | Aug. 23, 2000 | 080007
Missouri: St. Charles | City of O'Fallon | June 9, 2000, June 16, 2000, St. Charles Journal | The Honorable Paul Renaud, Mayor, City of O'Fallon, 138 South Main Street, O'Fallon, Missouri 63366 | May 24, 2000 | 290316
New Mexico: Bernadillo | Unincorporated Areas | May 11, 2000, May 18, 2000, Albuquerque Journal | The Honorable Tom Rutherford, Chairperson, Bernalillo County Board of Commissioners, 2400 Broadway Southeast, Albuquerque, New Mexico 87102 | Mar. 31, 2000 | 350001
Oklahoma:
Oklahoma | City of Oklahoma City | May 31, 2000, June 7, 2000, Daily Oklahoman | The Honorable Kirk Humphreys, Mayor, City of Oklahoma City, 200 North Walker, Suite 302, Oklahoma City, Oklahoma 73102 | May 12, 2000 | 405378
Tulsa | City of Glenpool | May 31, 2000, June 7, 2000, Tulsa World | The Honorable Charles Campbell, Mayor, City of Glenpool, P.O. Box 70, Glenpool, Oklahoma 74033 | Sept. 5, 2000 | 400208
Texas:
Brazos | City of Bryan | June 14, 2000, June 21, 2000, Bryan-College Station Eagle | The Honorable Lonnie Stabler, Mayor, City of Bryan, P.O. Box 1000, Bryan, Texas 77805 | Sept. 19, 2000 | 480082
Brazos | City of College Station | June 14, 2000, June 21, 2000, Bryan-College Station Eagle | The Honorable Lynn McIlhaney, Mayor, City of College Station, P.O. Box 9960, College Station, Texas 77842-0960 | Sept. 19, 2000 | 480083
Denton | City of Denton | June 22, 2000, June 29, 2000, Denton Record Chronicle | The Honorable Eulene Brock, Mayor, City of Denton, 215 East McKinney Street, Denton, Texas 76201 | June 1, 2000 | 480194
Denton | City of Lewisville | May 26, 2000, June 2, 2000, Lewisville News | The Honorable Bobbie J. Mitchell, Mayor, City of Lewisville, P.O. Box 299002, Lewisville, Texas 75029-9002 | May 5, 2000 | 480195
Denton | Unincorporated Areas | June 22, 2000, June 29, 2000, Denton Record Chronicle | The Honorable Kirk Wilson, Denton County Judge, 110 West Hickory Street, Denton, Texas 76201 | June 1, 2000 | 480774
Denton | Town of Westlake | June 6, 2000, June 13, 2000, Keller Citizen | The Honorable Scott Bradley, Mayor, Town of Westlake, 3 Village Circle, Suite 207, Westlake, Texas 76262 | May 15, 2000 | 480614
Fort Bend | Fort Bend County, Municipal Utility, District No. 34 | May 12, 2000, May 19, 2000, Herald-Coaster | Mr. Saib Y. Saour, P.E., R.L.S., District Engineer, 34 Fort Bend County Municipal Utility District No. 34, c/o Benchmark Engineering Corporation, 2401 Fountainview Drive, Suite 220, Houston, Texas 77057 | Mar. 31, 2000 | 481520
Fort Bend | Fort Bend County, Municipal Utility, District No. 35 | May 12, 2000, May 19, 2000, Herald-Coaster | Mr. Saib Y. Saour, P.E., R.L.S., District Engineer, Fort Bend County Municipal Utility District No. 35, c/o Benchmark Engineering Corporation, 2401 Fountainview Drive, Suite 220, Houston, Texas 77057 | Mar. 31, 2000 | 481519
Fort Bend | Unincorporated Areas | May 12, 2000, May 19, 2000, The Herald-Coaster | The Honorable James Adolphus, Fort Bend County Judge, 301 Jackson Street, Suite 719, Richmond, Texas 77469 | Mar. 31, 2000 | 480228
Harris | City of Houston | June 6, 2000, June 13, 2000, Houston Chronicle | The Honorable Lee Brown, Mayor, City of Houston, P.O. Box 1562, Houston, Texas 77251-1562 | Sept. 11, 2000 | 480296
Washington: Skagit | Unincorporated Areas | May 11, 2000, May 18, 2000, Skagit Valley Herald | The Honorable Harvey Wolden, Chairperson, Skagit County Board of Commissioners, 700 South Second Street, Room 202, Mount Vernon, Washington 98273 | April 7, 2000 | 530151

(Catalog of Federal Domestic Assistance No. 83.100, “Flood Insurance”)

Dated: October 16, 2000.
Michael J. Armstrong,
Associate Director for Mitigation.

[FR Doc. 00-27640 Filed 10-26-00; 8:45 am]

BILLING CODE 6718-04-P